DEPARTMENT OF STATE

[Public Notice: 10546]

Cessation of Operations of the Office of the General Delegation of the Palestine Liberation Organization Located in Washington, DC

SUMMARY: This provides notice to persons and entities that, as required by the Department of State, the Office of the General Delegation of the Palestine Liberation Organization (“General Delegation”) located in Washington, DC, must cease all public operations and take certain measures by the times and dates shown and that benefits formerly extended to the General Delegation by the Department of State will no longer be approved.

DATES: The General Delegation was notified of this action on September 10, 2018.

FOR FURTHER INFORMATION CONTACT: Cliff Seagroves, 202-647-3417 and OFMInfo@state.gov.

SUPPLEMENTARY INFORMATION: Pursuant to legal authorities, including the Antiterrorism Act of 1987 (title X of Pub. L. 100-204), the Foreign Missions Act of 1982 (22 U.S.C. 4301-4316), and the Department of State's Designation and Determination of June 21, 1994 (U.S. Department of State, Public Notice 2035, 59 FR 37121, 37122 (July 20, 1994)), the Department of State notified the Office of the General Delegation of the Palestine Liberation Organization (“General Delegation”) that it must cease all public operations not later than 5:00 p.m. EDT on September 13, 2018 and resolve any outstanding obligations, including all its financial obligations, vacate the property located at 1732 Wisconsin Avenue NW, Washington DC, terminate staff, and close its U.S. bank account, not later than 11:59 p.m. EDT on October 10, 2018. Accordingly, benefits formerly extended to the General Delegation by the Department of State under the Foreign Missions Act will no longer be approved by the Department, in accordance with the above-listed schedule.

Publication of this Notice in the Federal Register constitutes notice to persons and entities of this change in the terms and conditions with respect to benefits formerly extended to the General Delegation, and its agents and employees acting on its behalf. Persons wishing clarification on the applicability of this Notice may contact the Office of Foreign Missions, U.S. Department of State, 2201 C Street NW, Room 2236, Washington, DC 20520 at 202-647-3417 and OFMInfo@state.gov.

Clifton C. Seagroves,
Director, Acting Office of Foreign Missions.

[FR Doc. 2018-20065 Filed 9-14-18; 8:45 am]

BILLING CODE 4710-43-P